DEPARTMENT OF LABOR

Office of the Secretary

Submission for OMB Review; Comment Request

September 25, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Mine Safety and Health Administration (MSHA), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of a currently approved collection.

Title: Escape and Evacuation Plans (Pertains to Surface Coal Mines and Surface Work Areas of Underground Coal Mines).

OMB Number: 1219-0051.

Affected Public: Business or other for-profit.

Frequency: On occasion.

Type of Response: Recordkeeping.

Number of Respondents: 183.

Number of Annual Responses: 183.

Average Response Time: Approximately 5 hours to prepare a new escape and evacuation plan and approximately 2.5 hours to revise an existing plan.

Total Estimated Burden Hours: 878.

Total Annualized Capital/Startup Costs: $0.

Total Annual Costs (operating/maintaining systems or purchasing services): $0.

Description: 30 CFR 77.1101 required coal mine operators to establish and keep current a specific escape and evacuation plan to be followed in the event of a fire. The plan is used to instruct employees in the proper method of exiting work areas.

Agency: Mine Safety and Health Administration.

Type of Review: Extension of a currently approved collection.

Title: Records of Preshift and Onshift Inspections of Slope and Shaft Areas (Pertains to Slope and Shaft Sinking Operations at Coal Mines).

OMB Number: 1219-0082.

Affected Public: Business or other for-profit.

Frequency: Each shift.

Type of Response: Recordkeeping.

Number of Respondents: 35.

Number of Annual Responses: 11,858.

Average Response Time: 1.25 hours.

Total Estimated Burden Hours: 14,823.

Total Annualized Capital/Startup Costs: $0.

Total Annual costs (operating/maintaining systems or purchasing services: $0.

Description: 30 CFR 77.1901 requires coal mine operators to conduct examinations of slope and shaft areas for hazardous conditions, including tests for methane and oxygen deficiencies, before and during each shift and before blasting. Records of the results of the inspections are required to be kept.

Ira L. Mills,
Departmental Clearance Officer.

[FR Doc. 03-25703 Filed 10-9-03; 8:45 am]

BILLING CODE 4510-43-M